DEPARTMENT OF THE INTERIOR

Bureau of Land Management

[OR-090-03-0158]

Notice of Proposed Supplementary Rules on Public Land In Oregon

AGENCY: Bureau of Land Management, Eugene District, Oregon.

ACTION: Proposed supplementary rules for public land within the West Eugene Wetlands, Eugene District, Oregon.

SUMMARY: The Bureau of Land Management (BLM)'s Siuslaw Resource Area is proposing supplementary rules. These rules will apply to the public lands within the West Eugene Wetlands in the Siuslaw Resource Area, Eugene District, Lane County, Oregon. The rules are needed in order to protect the area's natural resources and provide for public health and safety.

DATES: You should submit your comments by October 30, 2003. In developing final rules, BLM may not consider comments postmarked or received in person or by electronic mail after this date.

ADDRESSES: You may comment on the proposed supplementary rules in 3 ways.

Personal delivery: Bureau of Land Management, Siuslaw Resource Area, 2890 Chad Drive, Eugene, Oregon, 97408;

Mail: Bureau of Land Management, Siuslaw Resource Area/Field Office, at P.O. Box 10226, Eugene, Oregon, 97440-2226; or Internet email: Eugene_mail@blm.gov.

FOR FURTHER INFORMATION CONTACT: Steve Calish, Siuslaw Resource Area Manager, 2890 Chad Drive, Eugene, Oregon, 97408, telephone (541) 683-6600.

I. Public Comment Procedures

II. Discussion of the Supplementary Rules

III. Procedural Matters

I. Public Comment Procedures

Please submit your comments on issues related to the proposed supplementary rules, in writing, according to the ADDRESSES section above. Comments on the proposed supplementary rules should be specific, should be confined to issues pertinent to the proposed supplementary rules, and should explain the reason for any recommended change. Where possible, your comments should reference the specific section or paragraph of the proposal that you are addressing. BLM may not necessarily consider or include in the Administrative Record for the final rule comments that BLM receives after the close of the comment period (see DATES) or comments delivered to an address other than those listed above (see ADDRESSES).

BLM will make your comments, including your name and address, available for public review at the Siuslaw Resource Area address listed in ADDRESSES above during regular business hours (7:45 a.m. to 4:15 p.m., Monday through Friday, except Federal holidays).

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Discussion of the Supplementary Rules

These rules will apply to the public lands within the West Eugene Wetlands, including any lands acquired within the described lands subsequent to the adoption of these rules. The West Eugene Wetlands is located in the southern Willamette Valley, in and immediately west of the City of Eugene, Oregon, within Sections 27, 28, 29, 30, 31, 32, 33, 34 and 35 of Township 17 South, Range 4 West of the Willamette Meridian, and sections 4 and 5 of Township 18 South, Range 4 West of the Willamette Meridian. These rules will be applicable to BLM lands located south of Royal Avenue only. BLM has determined these rules necessary to protect the area's natural resources and to provide for safe public recreation, public health, and reduce the potential for damage to the environment and to enhance the safety of visitors and neighboring residents.

III. Procedural Matters

Executive Order 12866, Regulatory Planning and Review

These supplementary rules are not a significant regulatory action and are not subject to review by Office of Management and Budget under Executive Order 12866. These supplementary rules will not have an effect of $100 million or more on the economy. They are not intended to affect commercial activity, but contain rules of personal conduct for public use of certain public lands. They will not adversely affect, in a material way, the economy, productivity, competition, jobs, the environment, public health or safety, or state, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the supplementary rules be easier to understand if they were divided into more (but shorter) sections?

(5) Is the description of the proposed supplementary rules in the SUPPLEMENTARY INFORMATION section of this preamble helpful in understanding the proposed supplementary rules? How could this description be more helpful in making the supplementary rules easier to understand?

Please send any comments you have on the clarity of the supplementary rules to the address specified in the ADDRESSES section.

National Environmental Policy Act

BLM has prepared an environmental assessment (EA) designated EA-08-01, dated June 18, 2001, which covers the West Eugene Wetlands Recreation, Access and Environmental Education Plan, and has found that the proposed supplementary rules would not constitute a major Federal action significantly affecting the quality of the human environment under section 102(2)(C) of the Environmental Protection Act of 1969 (NEPA), 42 U.S.C. 4332(2)(C). The supplementary rules merely contain rules of conduct for certain lands in Oregon. These rules are designed to protect the environment and the public health and safety. A detailed statement under NEPA is not required. BLM has placed the EA and the Finding of No Significant Impact (FONSI) on file in the BLM Administrative Record at the address specified in the “ADDRESSES” section. It can also be found at http://www.edo.or.blm.gov/nepa/ea_archive.htm. BLM invites the public to review these documents and suggests that anyone wishing to submit comments in response to the EA and FONSI do so in accordance with the “Public comment procedure” section above.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but merely contains rules of personal conduct for public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business'commercial or industrial use of the public lands.

Unfunded Mandates Reform Act

These supplementary rules do not impose an unfunded mandate on state, local or tribal governments or the private sector of more than $100 million per year; nor do these proposed supplementary rules have a significant or unique effect on state, local, or tribal governments or the private sector. The supplementary rules do not require anything of state, local, or tribal governments. Therefore, BLM is not required to prepare a statement containing the information required by the Unfunded Mandates Reform Act (2 U.S.C. 1531 et seq.)

Executive Order 12630, Governmental Actions and Interference With Constitutionally Protected Property Rights (Takings)

The proposed supplementary rules do not represent a government action capable of interfering with constitutionally protected property rights because all rules are only effective on public lands. Therefore, the Department of the Interior has determined that the rule would not cause a taking of private property or require further discussion of takings implications under this Executive Order.

Executive Order 13132, Federalism (Replaces Executive Orders 12612 and 13083)

The proposed supplementary rules will not have a substantial direct effect on the states, on the relationship between the national government and the states, or on the distribution of power and responsibilities among the various levels of government. Therefore, in accordance with Executive Order 13132, BLM has determined that this proposed supplementary rules does not have sufficient Federalism implications to warrant preparation of a Federalism Assessment.

Executive Order 12988, Civil Justice Reform

Under Executive Order 12988, the Office of the Solicitor has determined that this proposed supplementary rules would not unduly burden the judicial system and that it meets the requirements of sections 3(a) and 3(b)(2) of the Order.

Executive Order 13175, Consultation and Coordination With Indian Tribal Governments

In accordance with Executive Order 13175, we have found that this final rule does not include policies that have tribal implications. The supplementary rules would not apply to Indian lands or resources, or trust lands or resources.

Paperwork Reduction Act

These supplementary rules do not contain information collection requirements that the Office of Management and Budget must approve under the Paperwork Reduction Act of 1995, 44 U.S.C. 3501 et seq.

Author

The principal author of these supplementary rules is Pat Johnston, wetlands project manager, Bureau of Land Management, Siuslaw Resource Area.

Supplementary Rules for the West Eugene Wetlands

Sec. 1 Rules of conduct: Under 43 CFR 8365.1-6, the Bureau of Land Management will enforce the following rules on the public lands within the West Eugene Wetlands, Siuslaw Resource Area, Eugene District Office, Oregon. You must follow these rules:

a. You must not litter.

b. You must not enter areas that are posted or otherwise delineated, fenced, or barricaded to close them to public use.

c. You must not use or occupy any area one hour after sunset through one hour before sunrise, unless you are traveling on the Fern Ridge Bike Path.

d. You must not discharge fireworks, firearms, air guns, slingshots or use any other projectile launching device.

e. You must not leave personal property unattended.

f. You must not use or operate motorized vehicles on the Fern Ridge Bike Path, or operate motorized or non-motorized vehicles off those roads or paths or parking areas specifically designated for vehicle use. Motor vehicles being used by duly authorized emergency response personnel, including police, ambulance and fire suppression, as well as BLM or BLM-authorized vehicles being used for official duties, are excepted.

g. You must not build or use campfires or other open flame fires. You must not smoke when it is determined by the authorized officer that smoking must be prohibited to protect natural resources and/or adjacent properties from wildfire hazard.

h. You must not possess, disturb, or collect any natural resource unless specifically permitted by the authorized officer.

i. You must not allow entry of pets or livestock into areas closed to pet or livestock use. Livestock are not permitted south of Royal Avenue. Pets must be restrained on a leash not to exceed six feet in length or be physically restricted at all times. Pet owners must clean up pet waste and pack it out or dispose of in garbage receptacle.

j. You must not possess or consume alcoholic beverages.

k. You must not possess glass beverage containers.

Sec. 2 Penalties: On public lands, under section 303(a) of the Federal Land Policy and Management Act of 1976 (43 U.S.C. 1733(a)) and 43 CFR 8360.0-7 any person who violates any of these supplementary rules within the boundaries established in the rules may be tried before a United States Magistrate and fined no more than $1,000 or imprisoned for no more than 12 months, or both. Such violations may also be subject to the enhanced fines provided for by 18 U.S.C. 3571.

Elaine M. Brong,
Oregon State Director.

[FR Doc. 03-24668 Filed 9-29-03; 8:45 am]

BILLING CODE 4310-33-P